DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending September 30, 2007.

Last name | First name | Middle name/initials
ISLAM | FAKHUR | UL
FAKHUR | NUSRAT |
GORE | ROGER | DALE
PAK | CHANWON |
STOLT-NIELSEN WIKBORG | NADIA | BENEDICTE
TELLVIK | CAROLA |
ARBIB | TAMARA | SARA
ICHIHARA | HIROSHI |
TIM | FRANCIS | MOK-PIK
ICHIHARA | MIYOKO |
BRAJOVIC | MILOS | VIDOJE
NATHAN | LLOYD | C
CLARKE | JENNIFER | P
HO | YUK | HING
COGGINS | PETER | B
COGGINS | JULIE | ANN
AASHEIM | JOHANNES |
ZHANG | RUI |
DE MONTARLOT | ANNE |
SCHLAEPFER | MIREILLE | ANNY
MILINE | DAVID | ALEXANDER
KIRDAR | SERRA | NEMIR
KWEE-NG | STEPHANIE | MEISHA
GEISMAR | JOHN | LEE
WIGHT | KENNETH | JOHN
WIGHT | PARI |
GOLOB | PETER | EUGENE
PEACOCK-EVANS | PATRICIA | WOODWARD
WANG | YING | BO
CRONE IV | JOHN | T
MAC MANUS | PAUL |
DAVIES | PATRICIA | CLAIRE
DAVIES | GEORGE | BERNARD
ADAL | KARIM | ABOU
CHAPPLE | CELIA | ROSE
ADAL | CORINNE | ABOU
BRICKHILL | CHRISTOPHER | JOHN
GONG | FANGXIONG |
ROZWADOWSKI | ANA | L.
REILLY | ISABEL | LUITGARD
DANOWA | PAUL | S
METRO | SIMONA |
LUNT | LAWRENCE | FRANCIS
SCHMIDT | RENE | W.
LESTER | DARIN | K
ROBINSON | LINDSAY | I. B
NATHANIEL | MOSES | S
KING | MATTHEW | RICHARD
CHAN | WINNIE | WING-YAN
CHAN | TERESA | SAU-HAN KAN
CHANG | ERIC |
RUSHTON | PRISCILLA | ELLEN
CHAN | LAWRENCE | CHUN-KOON
WILSON | DENNIS |
KOYAMA | TERUKO |
WOOLEY | TREVOR | D
ZHANG | JUYING | JERRY
LIU | YANI |
BORG | EMMA | G N
NELSON | JANET | M
KELLER | PHILIP |
RIEDIGER | BARRY | RAYMOND
ROBBINS | MARLENE | A.
TORLOF | CHRISTER | H
WONG | LORRAINE | T
BASCHERA | GIAN | MARCO
MOYLAN | THOMAS | P
COOPER | ADAM |
GEORGE | AMANDA | JACKSON
GEORGE | COLIN | TREVOR
STEKETEE | STEPHANIE | H.
LEIPPOLD | THOMAS | B.
STEKETEE | NORMAN | F.
CHUNG | SIU | WAH
SUESS | FRANK |
ADDA | ALEXIA | MARY
WU | PAUL |
MAUGHAN | RUSSELL | GEORGE
MITCHELL | ALISON |
CHELLARAM | ADITYA | SURESH
DAMM | ISABELLE | FREY
CHANG | DAVID | SHUI KEI
MACDONALD | WILLIAM | MUIR
TSCHUDIN | CARL | MICHEL
UMENO | YUGO |
POOR | ROBERT |
CHEN | DOUGLAS | WAI HUEN
ODFJELL | LAURENCE | WARD
WHITAKER | ANITA | LOUISE
ODFJELL | BERNT | DANIEL
ODFJELL | CARL | FREDRIK
GRUER | CAMILLA | ODFJELL
YU | JENNIFER | NGAR WING
BEANLAND | JOAN | A.
BEANLAND | DAVID | J.
ATTWOOD | JAMES |
RAVINDRAN | SIMON |
MCGILL | STUART | R.
DENNIS | CHARLOTTE | VICTORIA
WANG | YUE |
MCGILL | MERYL |
PITTS | STEPHEN | L.
UMENO | HIROKO |
LAU | DENISE | YIN SHAN
BRAGONI | EVELYN | IRENE

Dated: October 24, 2007.
Angie Kaminski,
Manager Team 103, Examinations Operations, Philadelphia Compliance Services.

[FR Doc. E7-21905 FILED 11-7-07; 8:45 AM]

BILLING CODE 4830-01-P